DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory. The Federal Advisory Committee Act (Pub. L. No. 92-463, 86 Stat. 770) requires that public notice of these meeting be announced in the Federal Register.

DATES: Tuesday, January 20, 2004—2:45 p.m.-6 p.m. (Pre-meeting tour of Idaho Nuclear and Technology Engineering Center, INTEC, for INEEL CAB members 8 a.m. to 2:30 p.m.)

Wednesday, January 21, 2004—8 a.m.-5 p.m.

Opportunities for public participation will be held Tuesday, January 20 from 5:45 to 6 p.m., and on January 21 from 11:15 to 11:30 a.m. and 3:20 to 3:35 p.m. Additional time may be made available for public comment during the presentations.

These times are subject to change as the meeting progresses, depending on the extent of comment offered. Please check with the meeting facilitator to confirm these times.

ADDRESSES: Ameritel Inn, 645 Lindsay Boulevard, Idaho Falls, ID 83402.

FOR FURTHER INFORMATION CONTACT: Ms. Peggy Hinman, INEEL CAB Administrator, North Wind, Inc., P.O. Box 51174, Idaho Falls, ID 83405, Phone (208) 528-8718, or visit the Board's Internet Home page at http://www.ida.net/users/cab.

SUPPLEMENTARY INFORMATION: Purpose of the Board: The purpose of the Board is to make recommendations to DOE in areas of future use, cleanup levels, waste disposition and cleanup priorities at the INEEL.

Tentative Agenda:

• Cleanup and closure of the Idaho Nuclear Technology and Engineering Center (INTEC)

• New Risk-Based End State Vision for the INEEL

• Conduct process to select new members

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Gerald C. Bowman, Assistant Manager for Laboratory Development, Idaho Operations Office, U.S. Department of Energy, is empowered to conduct the meeting in a fashion that will facilitate the orderly conduct of business. Every individual wishing to make public comment will be provided equal time to present their comments. Additional time may be made available for public comment during the presentations. This notice is being published less than 15 days before the date of the meeting due to programmatic issue that has to be resolved.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Peggy Hinman, INEEL CAB Administrator, at the address and phone number listed above.

Issued at Washington, DC on December 30, 2003.
Rachel Samuel,
Deputy Advisory Committee Management Officer.

[FR Doc. 04-198 Filed 1-5-04; 8:45 am]

BILLING CODE 6450-01-P